DEPARTMENT OF TRANSPORTATION

Federal Aviation Administration

14 CFR Part 39

[Docket No. FAA-2015-0075; Directorate Identifier 2014-NM-202-AD]

RIN 2120-AA64

Airworthiness Directives; The Boeing Company Airplanes

AGENCY: Federal Aviation Administration (FAA), DOT.

ACTION: Notice of proposed rulemaking (NPRM).

SUMMARY: We propose to supersede Airworthiness Directive (AD) 2013-26-08, which applies to certain The Boeing Company Model 737-600, -700, -700C, -800, -900, and -900ER series airplanes. AD 2013-26-08 currently requires inspecting the orientation of both sides of the coil cord connector keyways of the number 2 windows on the flight deck; re-clocking the connector keyways, if necessary; and replacing the coil cord assemblies on both number 2 windows on the flight deck. Since we issued AD 2013-26-08, we have determined that additional airplanes are subject to the identified unsafe condition. This proposed AD would add airplanes to the applicability. We are proposing this AD to prevent arcing, smoke, and fire in the flight deck, which could lead to injuries to or incapacitation of the flightcrew.

DATES: We must receive comments on this proposed AD by March 9, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0075; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Frank Carreras, Aerospace Engineer, Systems and Equipment Branch, ANM-130S, FAA, Seattle Aircraft Certification Office (ACO), 1601 Lind Avenue SW., Renton, WA 98057-3356; phone: 425-917-6442; fax: 425-917-6590; email: frank.carreras@faa.gov.

SUPPLEMENTARY INFORMATION:

Comments Invited

We invite you to send any written relevant data, views, or arguments about this proposed AD. Send your comments to an address listed under the ADDRESSES section. Include “Docket No. FAA-2015-0075; Directorate Identifier 2014-NM-202-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 20, 2013, we issued AD 2013-26-08, Amendment 39-17717 (79 FR 545, January 6, 2014), for certain The Boeing Company Model 737-600, -700, -700C, -800, -900, and -900ER series airplanes. AD 2013-26-08 requires inspecting the orientation of both sides of the coil cord connector keyways of the number 2 windows on the flight deck; re-clocking the connector keyways, if necessary; and replacing the coil cord assemblies on both number 2 windows on the flight deck. AD 2013-26-08 resulted from reports of arcing and smoke at the left number 2 window in the flight deck. We issued AD 2013-26-08 to prevent arcing, smoke, and fire in the flight deck, which could lead to injuries to or incapacitation of the flightcrew.

Actions Since AD 2013-26-08, Amendment 39-17717 (79 FR 545, January 6, 2014) Was Issued

In AD 2013-26-08, Amendment 39-17717 (79 FR 545, January 6, 2014), a commenter to the SNPRM (77 FR 41931, July 17, 2012) requested that we add additional airplanes to the applicability. We determined that further delay of AD 2013-26-08 was not appropriate in light of the identified unsafe condition that existed on the airplanes specified in the applicability of AD 2013-26-08. We stated that we might consider additional rulemaking in the future. We now have determined that further rulemaking is indeed necessary, and this proposed AD follows from that determination.

FAA's Determination

We are proposing this AD because we evaluated all the relevant information and determined the unsafe condition described previously is likely to exist or develop in other products of the same type design.

Proposed AD Requirements

This proposed AD would retain all requirements of AD 2013-26-08, Amendment 39-17717 (79 FR 545, January 6, 2014). This proposed AD would add Group 3 airplanes, as identified in Boeing Special Attention Service Bulletin 737-30-1058, Revision 5, dated April 24, 2013, to the applicability.

Costs of Compliance

We estimate that this proposed AD affects 718 airplanes of U.S. registry.

We estimate the following costs to comply with this proposed AD:

Estimated Costs
Action | Labor cost | Parts cost | Cost per product | Number of airplanes | Cost on U.S. operators
Keyway inspection and installation (Group1, Configuration 1 airplanes) [actions retained from AD 2013-26-08, Amendment 39-17717 (79 FR 545, January 6, 2014)] | 6 work-hours × $85 per hour = $510 | $1,608 | $2,118 | 712 | $1,508,016.
Adjustment of receptacles (Group 1, Configuration 2, Group 2, and Group 3 airplanes) [actions retained from AD 2013-26-08, Amendment 39-17717 (79 FR 545, January 6, 2014)] | 4 work-hours × $85 per hour = $340 | $0 | $340 | 410 | $139,400.
Coil cord inspection (Group 1, Configuration 3, and Group 2 airplanes) [actions retained from AD 2013-26-08, Amendment 39-17717 (79 FR 545, January 6, 2014)] | 1 work-hour × $85 per hour = $85 per coil cord | $0 | $85 per coil cord | 404 | $34,340 per coil cord.

We estimate the following costs to do any necessary replacements that would be required based on the results of the proposed inspection. We have no way of determining the number of aircraft that might need these replacements:

On-Condition Costs
Action | Labor cost | Parts cost | Cost per product
Replacement | 3 work-hours × $85 per hour = $255 per coil cord assembly | $1,735 per coil cord assembly | $1,990 per coil cord assembly.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-26-08, Amendment 39-17717 (79 FR 545, January 6, 2014), and adding the following new AD:

The Boeing Company: Docket No. FAA-2015-0075; Directorate Identifier 2014-NM-202-AD.

(a) Comments Due Date

The FAA must receive comments on this AD action by March 9, 2015.

(b) Affected ADs

This AD replaces AD 2013-26-08, Amendment 39-17717 (79 FR 545, January 6, 2014).

(c) Applicability

This AD applies to The Boeing Company Model 737-600, -700, -700C, -800, -900, and -900ER series airplanes, certificated in any category, as identified in Boeing Special Attention Service Bulletin 737-30-1058, Revision 5, dated April 24, 2013.

(d) Subject

Air Transport Association (ATA) of America Code 30, Ice and Rain Protection.

(e) Unsafe Condition

This AD was prompted by reports of arcing and smoke at the left number 2 window in the flight deck. We are issuing this AD to prevent arcing, smoke, and fire in the flight deck, which could lead to injuries to or incapacitation of the flightcrew.

(f) Compliance

Comply with this AD within the compliance times specified, unless already done.

(g) Retained Inspection and Replacement for Group 1, Configuration 1, Airplanes

This paragraph restates the requirements of paragraph (g) of AD 2013-26-08, Amendment 39-17717 (79 FR 545, January 6, 2014), with no changes. For airplanes identified as Group 1, Configuration 1, in Boeing Special Attention Service Bulletin 737-30-1058, Revision 5, dated April 24, 2013: Within 48 months after February 10, 2014 (the effective date of AD 2013-26-08), do the actions specified in paragraphs (g)(1) and (g)(2) of this AD.

(1) Do a general visual inspection of the orientation of the coil cord connector keyways on the captain's and first officer's sides of the flight compartment, in accordance with the Accomplishment Instructions of Boeing Special Attention Service Bulletin 737-30-1058, Revision 5, dated April 24, 2013, except as specified in paragraph (k) of this AD. If the orientation is not at the specified position, before further flight, turn the receptacle connector to the correct position, in accordance with the Accomplishment Instructions of Boeing Special Attention Service Bulletin 737-30-1058, Revision 5, dated April 24, 2013, except as specified in paragraph (k) of this AD.

(2) Replace the coil cords with new coil cords on both sides of the flight deck, in accordance with the Accomplishment Instructions of Boeing Special Attention Service Bulletin 737-30-1058, Revision 5, dated April 24, 2013, except as specified in paragraph (k) of this AD.

(h) Retained Receptacle Replacement for Group 1, Configuration 2, and Group 2, Configuration 1 Airplanes

This paragraph restates the requirements of paragraph (h) of AD 2013-26-08, Amendment 39-17717 (79 FR 545, January 6, 2014), with no changes. For airplanes identified as Group 1, Configuration 2, and Group 2, Configuration 1, in Boeing Special Attention Service Bulletin 737-30-1058, Revision 5, dated April 24, 2013: Within 48 months after February 10, 2014 (the effective date of AD 2013-26-08), install the receptacle connector with changed keyway position on both sides of the flight deck, in accordance with the Accomplishment Instructions of Boeing Special Attention Service Bulletin 737-30-1058, Revision 5, dated April 24, 2013, except as specified in paragraph (k) of this AD.

(i) Retained Coil Cord Inspection and Corrective Action

This paragraph restates the requirements of paragraph (i) of AD 2013-26-08, Amendment 39-17717 (79 FR 545, January 6, 2014), with no changes. For airplanes identified as Group 1, Configuration 3, and Group 2, Configuration 2, in Boeing Special Attention Service Bulletin 737-30-1058, Revision 5, dated April 24, 2013: Within 48 months after February 10, 2014 (the effective date of AD 2013-26-08), do a general visual inspection for rubbing damage of the coil cord on the captain's and first officer's sides of the flight compartment, in accordance with the Accomplishment Instructions of Boeing Special Attention Service Bulletin 737-30-1058, Revision 5, dated April 24, 2013, except as specified in paragraph (k) of this AD. If any rubbing damage is found: Before further flight, replace the coil cord with a new coil cord, in accordance with the Accomplishment Instructions of Boeing Special Attention Service Bulletin 737-30-1058, Revision 5, dated April 24, 2013, except as specified in paragraph (k) of this AD.

(j) New Requirements of This AD: Receptacle Replacement for Group 3 Airplanes

For airplanes identified as Group 3 in Boeing Special Attention Service Bulletin 737-30-1058, Revision 5, dated April 24, 2013: Within 48 months after the effective date of this AD, install the receptacle connector with changed keyway position on both sides of the flight deck, in accordance with the Accomplishment Instructions of Boeing Special Attention Service Bulletin 737-30-1058, Revision 5, dated April 24, 2013, except as specified in paragraph (k) of this AD.

(k) Exceptions to Boeing Special Attention Service Bulletin 737-30-1058, Revision 5, Dated April 24, 2013

(1) This paragraph restates the provisions of paragraph (j)(1) of AD 2013-26-08, Amendment 39-17717 (79 FR 545, January 6, 2014), with no changes. In the circuit breaker tables of the Work Instructions of Boeing Special Attention Service Bulletin 737-30-1058, Revision 5, dated April 24, 2013, the panel number for circuit breaker C00393 is incorrectly identified as “P6-12.” The correct panel number reference for circuit breaker C00393, “WINDOW HEAT POWER RIGHT SIDE,” is P6-11.

(2) This paragraph restates the provisions of paragraph (j)(2) of AD 2013-26-08, Amendment 39-17717 (79 FR 545, January 6, 2014), with no changes. In paragraph 3.B. of the Work Instructions of Boeing Special Attention Service Bulletin 737-30-1058, Revision 5, dated April 24, 2013, the description for Part 3 of the Work Instructions is identified as “PART 3: RECEPTACLE CONNECTOR POSITION CHANGE,” which is incorrect. The correct description for Part 3 of the Work Instructions is “PART 3: COIL CORD INSPECTION AND REPLACEMENT IF DAMAGE IS FOUND.”

(3) This paragraph restates the provisions of paragraph (j)(3) of AD 2013-26-08, Amendment 39-17717 (79 FR 545, January 6, 2014), with no changes. In Figures 13 and 14, in paragraph 3.B. of the Work Instructions of Boeing Special Attention Service Bulletin 737-30-1058, Revision 5, dated April 24, 2013, the note before the step tables misidentifies certain parts and airplane groups. The note should read:

NOTE: Group 1 and Group 2 airplanes have the connector receptacle identified as D10572. Group 3 airplanes have the connector receptacle identified as D10560. Except for Group 1 airplanes, a wire diagram change is not necessary and not shown in this service bulletin.

(l) Credit for Previous Actions

This paragraph restates the provisions of paragraph (k) of AD 2013-26-08, Amendment 39-17717 (79 FR 545, January 6, 2014), with no changes. This paragraph provides credit for the replacement required by paragraph (g)(2) of this AD, if the replacement was performed before February 10, 2014 (the effective date of AD 2013-26-08), using the service information specified in paragraph (l)(1), (l)(2), (l)(3), (l)(4), or (l)(5) of this AD, provided that the actions required by paragraph (h) of this AD are done in accordance with Boeing Special Attention Service Bulletin 737-30-1058, Revision 4, dated November 3, 2011; or Boeing Special Attention Service Bulletin 737-30-1058, Revision 5, dated April 24, 2013; for airplanes in Group 1, Configuration 2, and Group 2.

(1) Boeing Service Bulletin 737-30-1058, dated July 27, 2006, which is not incorporated by reference in this AD.

(2) Boeing Service Bulletin 737-30-1058, Revision 1, dated June 18, 2007, which is not incorporated by reference in this AD.

(3) Boeing Service Bulletin 737-30-1058, Revision 2, dated February 13, 2009, which is not incorporated by reference in this AD.

(4) Boeing Special Attention Service Bulletin 737-30-1058, Revision 3, dated July 7, 2010, which is not incorporated by reference in this AD.

(5) Boeing Special Attention Service Bulletin 737-30-1058, Revision 4, dated November 3, 2011.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to: 9-ANM-Seattle-ACO-AMOC-Requests@faa.gov.

(2) Before using any approved AMOC, notify your appropriate principal inspector, or lacking a principal inspector, the manager of the local flight standards district office/certificate holding district office.

(3) AMOCs approved for AD 2013-26-08, Amendment 39-17717 (79 FR 545, January 6, 2014), are approved as AMOCs for the corresponding provisions of this AD.

(4) For airplanes identified as Group 3 in Boeing Special Attention Service Bulletin 737-30-1058, Revision 5, dated April 24, 2013, AMOCs approved for the actions required by paragraph (h) of AD 2013-26-08, Amendment 39-17717 (79 FR 545, January 6, 2014), are approved as AMOCs for the corresponding provisions of paragraph (j) of this AD.

(n) Related Information

(1) For more information about this AD, contact Frank Carreras, Aerospace Engineer, Systems and Equipment Branch, ANM-130S, FAA, Seattle Aircraft Certification Office (ACO), 1601 Lind Avenue SW., Renton, WA 98057-3356; phone: 425-917-6442; fax: 425-917-6590; email: frank.carreras@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on January 14, 2015.
John P. Piccola, Jr.,
Acting Manager, Transport Airplane Directorate, Aircraft Certification Service.

[FR Doc. 2015-00962 Filed 1-22-15; 8:45 am]

BILLING CODE 4910-13-P